DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2014, there were five applications approved. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: Massachusetts Port Authority, Boston, Massachusetts.

APPLICATION NUMBER: 13-08-C-00-BOS.

APPLICATION TYPE: Impose and use a PFC.

PFC LEVEL: $4.50.

TOTAL PFC REVENUE APPROVED IN THIS DECISION: $99,959,096.

EARLIEST CHARGE EFFECTIVE DATE: December 1, 2023.

ESTIMATED CHARGE EXPIRATION DATE: May 1, 2025.

CLASS OF AIR CARRIERS NOT REQUIRED TO COLLECT PFC'S: Non-scheduled/on-demand air carriers.

DETERMINATION: Approved. Based on information contained in the public agency's application, the FAA has determined that the proposed class accounts for less than 1 percent of the total annual enplanements at Boston Logan International Airport.

BRIEF DESCRIPTION OF PROJECTS APPROVED FOR COLLECTION AND USE AT A $4.50 PFC LEVEL:

Runway protection zone land acquisition.

Renovations and improvements to terminal B.

Light pier and CAT III.

Terminal B apron improvement.

BRIEF DESCRIPTION OF PROJECT APPROVED FOR COLLECTION AND USE AT A $3.00 PFC LEVEL: Terminal B gate electrification equipment.

DECISION DATE: August 13, 2014.

For Further Information Contact: Priscilla Scott, New England Region Airports Division, (781) 238-7614.

PUBLIC AGENCY: City of Lebanon, New Hampshire.

APPLICATION NUMBER: 14-08-C-00-LEB.

APPLICATION TYPE: Impose and use a PFC.

PFC LEVEL: $4.50.

TOTAL PFC REVENUE APPROVED IN THIS DECISION: $167,203.

EARLIEST CHARGE EFFECTIVE DATE: October 1, 2014.

ESTIMATED CHARGE EXPIRATION DATE: June 1, 2018.

CLASS OF AIR CARRIERS NOT REQUIRED TO COLLECT PFC'S: Air taxi/commercial operators.

DETERMINATION: Approved. Based on information contained in the public agency's application, the FAA has determined that the proposed class accounts for less than 1 percent of the total annual enplanements at Lebanon Municipal Airport.

BRIEF DESCRIPTION OF PROJECTS APPROVED FOR COLLECTION AND USE AT A $4.50 PFC LEVEL:

Update master plan study.

Analyze and rehabilitate (design only) obstruction lights, runway 36.

Crack sealing airfield pavement surfaces.

Obstruction removal and replace with hazard beacons.

Design only—construct addition to snow removal equipment building.

Environmental assessment, permitting and mitigation for obstruction removal.

Replace terminal building boiler and rooftop air conditioning units.

DECISION DATE: August 13, 2014.

For Further Information Contact: Priscilla Scott, New England Region Airports Division, (781) 238-7614.

PUBLIC AGENCY: City of Wichita Falls, Texas.

APPLICATION NUMBER: 14-02-C-00-SPS.

APPLICATION TYPE: Impose and use a PFC.

PFC LEVEL: $4.50.

TOTAL PFC REVENUE APPROVED IN THIS DECISION: $7,961,241.

EARLIEST CHARGE EFFECTIVE DATE: December 1, 2017.

ESTIMATED CHARGE EXPIRATION DATE: August 1, 2058.

CLASS OF AIR CARRIERS NOT REQUIRED TO COLLECT PFC'S: None.

BRIEF DESCRIPTION OF PROJECT PARTIALLY APPROVED FOR COLLECTION AND USE AT A $4.50 PFC LEVEL: New passenger terminal building.

DETERMINATION: Partially approved. The FAA determined that one component, rental car parking lot, was not PFC eligible in accordance with § 158.15(b)(1).

DECISION DATE: August 15, 2014.

For Further Information Contact: Anthony Mekhail, Texas Airports Development Office, (817) 222-5663.

PUBLIC AGENCY: Pitt County—City of Greenville Airport Authority, Greenville, North Carolina.

APPLICATION NUMBER: 14-06-U-00-PGV.

APPLICATION TYPE: Use PFC revenue.

PFC LEVEL: $4.50.

TOTAL PFC REVENUE APPROVED FOR USE IN THIS DECISION: $514,283.

CHARGE EFFECTIVE DATE: October 1, 2011.

ESTIMATED CHARGE EXPIRATION DATE: October 1, 2014.

CLASS OF AIR CARRIERS NOT REQUIRED TO COLLECT PFC'S: No change from previous decision.

BRIEF DESCRIPTION OF PROJECTS APPROVED FOR USE AT A $4.50 PFC LEVEL:

Land acquisition, runway 20 approach, professional services.

Runway 2/20 runway safety area extension (design and construction).

Land acquisition, runway 20 extension (Lewis parcels).

Land acquisition, runway 20 runway safety area and runway extension.

DECISION DATE: August 20, 2014.

For Further Information Contact: Tommy DuPree, Memphis Airports District Office, (901) 322-8185.

PUBLIC AGENCY: Pitt County—City of Greenville Airport Authority, Greenville, North Carolina.

APPLICATION NUMBER: 14-07-C-00-PGV.

APPLICATION TYPE: Impose and use a PFC.

PFC LEVEL: $4.50.

TOTAL PFC REVENUE APPROVED IN THIS DECISION: $717,610.

EARLIEST CHARGE EFFECTIVE DATE: October 1, 2014.

ESTIMATED CHARGE EXPIRATION DATE: January 1, 2016.

CLASS OF AIR CARRIERS NOT REQUIRED TO COLLECT PFC'S: Air taxi/commercial operators filing FAA Form 1800-31 and operating at Pitt-Greenville Airport (PGV).

DETERMINATION: Approved. Based on information contained in the public agency's application, the FAA has determined that the proposed class accounts for less than 1 percent of the total annual enplanements at PGV.

BRIEF DESCRIPTION OF PROJECTS APPROVED FOR COLLECTION AND USE AT A $4.50 PFC LEVEL:

Runway safety area improvements/runway extension land, phase 2.

Runway 2/20 runway safety area improvements/runway extension land, phase 3.

Acquire security equipment, phase 1.

PFC application development.

PFC application administration.

BRIEF DESCRIPTION OF PROJECTS APPROVED FOR COLLECTION AT A $4.50 PFC LEVEL:

Construct air carrier apron.

Remove obstructions, runway 8/26 approach clearing.

Construct airfield access road, phase 1.

Acquire security equipment, phase 2.

Construct airfield access road, phase II.

Acquire land for development.

BRIEF DESCRIPTION OF WITHDRAWN PROJECTS:

Install fencing.

Improve airport—airfield drainage improvements, phase I.

DATE OF WITHDRAWAL: August 5, 2014.

Acquire aircraft rescue and firefighting vehicle.

DATE OF WITHDRAWAL: August 21, 2014.

Improve airport—hangar taxilanes and site preparation.

DATE OF WITHDRAWAL: August 26, 2014.

DECISION DATE: August 26, 2014.

For Further Information Contact: Tommy DuPree, Memphis Airports District Office, (901) 322-8185.

Amendments to PFC Approvals
Amendment No., City, State | Amendment approved date | Original approved net PFC revenue | Amended approved net PFC revenue | Original estimated charge exp. date | Amended estimated charge exp. date
14-03-C-01-ITH, Ithaca, NY | 07/25/14 | $677,500 | $677,825 | 02/01/18 | 02/01/18
04-08-C-05-RNO, Reno, NV | 08/06/14 | 53,000,000 | 52,073,714 | 07/01/07 | 07/01/07
08-05-C-02-UNV, University Park, PA | 08/07/14 | 4,338,028 | 4,088,027 | 12/01/14 | 04/01/15
11-04-C-02-PGV, Greenville, NC | 08/13/14 | 8,731,247 | 8,408,821 | 01/01/37 | 02/01/38
09-07-C-04-GRK, Killeen, TX | 08/13/14 | 3,122,284 | 4,072,284 | 04/01/13 | 05/01/16
07-10-C-01-RNO, Reno, NV | 08/15/14 | 32,878,000 | 6,358,000 | 10/01/13 | 10/01/13
11-06-C-01-TOL, Toledo, OH | 08/15/14 | 2,288,261 | 2,106,173 | 03/01/19 | 12/01/17
06-05-C-05-MOB, Mobile, AL | 08/18/14 | 4,681,541 | 4,626,407 | 05/01/13 | 05/01/13
11-04-C-03-PGV, Greenville, NC | 08/20/14 | 8,408,821 | 769,017 | 02/01/38 | 10/01/14
08-09-C-02-EUG, Eugene, OR | 08/25/14 | 2,400,000 | 3,380,331 | 07/01/10 | 03/01/11
10-03-C-02-DAL, Dallas, TX | 08/27/14 | 383,636,108 | 374,336,108 | 04/01/26 | 04/01/25
12-04-C-02-DAL, Dallas, TX | 08/27/14 | 13,037,816 | 10,987,816 | 10/01/27 | 10/01/27

Issued in Washington, DC, on November 17, 2014.
Joe Hebert,
Manager, Financial Analysis and Passenger Facility Charge Branch.

[FR Doc. 2014-27791 Filed 11-21-14; 8:45 am]

BILLING CODE 4910-13-P